DEPARTMENT OF THE INTERIOR

Bureau of Land Management

[(LLMT926000-L1440000.BJ0000); 16XL1109AF; MO#4500087899]

Notice of Filing of Plats of Survey; Montana

AGENCY: Bureau of Land Management, Interior.

ACTION: Notice of filing of plats of survey.

SUMMARY: The Bureau of Land Management (BLM) will file the plat of survey of the lands described below in the BLM Montana State Office, Billings, Montana, on January 4, 2016.

DATES: Protests of the survey must be filed before January 4, 2016 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, HMontoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: These surveys were executed at the request of the Regional Land Surveyor, Region 6, U.S. Fish and Wildlife Service, and were necessary to determine boundaries of Federal lands.

The lands we surveyed are:

Principal Meridian, Montana

T. 22 N., R. 43 E.

The plat, in 1 sheet, representing the dependent resurvey of a portion of the subdivisional lines, Township 22 North, Range 43 East, of the Principal Meridian, Montana, was accepted September 25, 2015.

Principal Meridian, Montana

T. 23 N., R. 43 E.

The plat, in 3 sheets, representing the dependent resurvey of a portion of the south and east boundaries and a portion of the subdivisional lines and the subdivision of certain sections and the survey of portions of the easterly and westerly rights-of-way of present Montana State Highway 24 and certain parcels, in Township 23 North, Range 43 East, of the Principal Meridian, Montana, was accepted September 25, 2015.

We will place a copy of the plats, in four sheets, and related field notes we described in the open files. They will be available to the public as a matter of information. If the BLM receives a protest against this survey, as shown on the plats, in four sheets, prior to the date of the official filing, we will stay the filing pending our consideration of the protest. We will not officially file the plats, in four sheets, until the day after we have accepted or dismissed all protests and they have become final, including decisions or appeals.

Authority: 43 U.S.C. Chap. 3.

Joshua F. Alexander,
Acting Chief, Branch of Cadastral Survey, Division of Energy, Minerals and Realty.

[FR Doc. 2015-30682 Filed 12-3-15; 8:45 am]

BILLING CODE 4310-DN-P